DEPARTMENT OF THE TREASURY

Office of Foreign Assets Control

Actions Taken Pursuant to Executive Order 13382 Related to the Islamic Republic of Iran Shipping Lines (IRISL)

AGENCY: Office of Foreign Assets Control, Treasury.

ACTION: Notice.

SUMMARY: The Treasury Department's Office of Foreign Assets Control (“OFAC”) is publishing the names of three vessels identified as property blocked because of their connection to the Islamic Republic of Iran Shipping Lines (IRISL), is updating the entries of 21 already-blocked vessels to identify new names and/or other information, and is removing the names of 10 vessels previously identified as property blocked because of their connection to IRISL from OFAC's list of Specially Designated Nationals and Blocked Persons. OFAC is also updating the information of two entities affiliated with IRISL.

DATES: The identification, updates, and removal made by the Director of OFAC, pursuant to Executive Order 13382, of the 34 vessels and two entities in this notice was effective on March 31, 2011.

FOR FURTHER INFORMATION CONTACT: Assistant Director, Sanctions Compliance & Evaluation, tel.: 202/622-2490, Office of Foreign Assets Control; Assistant Director for Policy, tel.: 202/622-4855, Office of Foreign Assets Control; or Chief Counsel (Foreign Assets Control), tel.: 202/622-2410, Office of the General Counsel, Department of the Treasury, Washington, DC 20220.

SUPPLEMENTARY INFORMATION:

Electronic and Facsimile Availability

This document and additional information concerning OFAC are available from OFAC's Web site (http://www.treas.gov/offices/enforcement/ofac) or via facsimile through a 24-hour fax-on demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On March 31, 2011, the Director of OFAC updated the information on OFAC's list of Specially Designated Nationals and Blocked Persons of the following two entities affiliated with the Islamic Republic of Iran Shipping Lines (IRISL), identified three vessels as property of IRISL, updated 21 already-blocked IRISL vessels to identify new names or other information given to those vessels, and removed 10 vessels that were previously identified as property of IRISL. Banks are instructed to reject any funds transfer referencing a blocked vessel and must notify OFAC, via facsimile with a copy of the payment instructions that funds have been returned to the remitter due to the possible involvement of a SDN vessel in the underlying transaction.

Updated Information of Entities Associated with IRISL:

Hafiz Darya Shipping Co (a.k.a. Hafiz Darya Shipping Lines Company; a.k.a. HDS Lines), No 60, Ehteshamiyeh Square, 7th Neyestan Street, Pasdaran Avenue, Tehran, Iran; BIC Container Code HDXU; Business Registration Document # 5478431 issued Mar 2009 [NPWMD]

Seibow Logistics Limited, Room 803, 8/F, Futura Plaza, 111 How Kimg St, Kwun Tong, Kowloon, Hong Kong, China; BIC Container Code SBAU; Business Registration Document # 1218675 issued 18 Mar 2008 [NPWMD]

Newly Identified Vessels:

Dorita (f.k.a. Iran Moein) General Cargo 2,495DWT 1,630GRT Iran flag (IRISL); Vessel Registration Identification IMO 8605234 (Iran) (vessel) [NPWMD]

Kados (f.k.a. Iran Sahel) General Cargo 3,816DWT 2,842GRT Iran flag (IRISL); Vessel Registration Identification IMO 9137258 (Iran) (vessel) [NPWMD]

Salim Bulk Carrier 53,100DWT 31,117GRT Malta flag (IRISL); Vessel Registration Identification IMO 9465851 (Malta) (vessel) [NPWMD]

Already-blocked Vessels with New Information:

Armis (f.k.a. Iran Zanjan; f.k.a. Visea) Container Ship 33,850DWT 25,391GRT Barbados flag (IRISL); Vessel Registration Identification IMO 9283019 (Barbados) (vessel) [NPWMD]

Atena (f.k.a. Iran Yazd; f.k.a. Lancelin) Bulk Carrier 72,642DWT 40,609GRT Cyprus flag (IRISL); Vessel Registration Identification IMO 9213387 (Cyprus) (vessel) [NPWMD]

Daffodil (f.k.a. Eleventh Ocean) Container Ship 41,962DWT 36,014GRT Malta flag (IRISL); Vessel Registration Identification IMO 9209324 (Malta) (vessel) [NPWMD]

Dandle (f.k.a. Twelfth Ocean) Container Ship 41,971DWT 36,014GRT Malta flag (IRISL); Vessel Registration Identification IMO 9209348 (Malta) (vessel) [NPWMD]

Decker (f.k.a. Fifth Ocean) Container Ship 81,112DWT 75,395GRT Malta flag (IRISL); Vessel Registration Identification IMO 9349667 (Malta) (vessel) [NPWMD]

Dorsan (f.k.a. Iran Khorasan; f.k.a. Khorasan) Bulk Carrier 72,622DWT 39,424GRT Malta flag (IRISL); Vessel Registration Identification IMO 9193214 (Malta) (vessel) [NPWMD]

Eighth Ocean General Cargo 22,882DWT 15,670GRT Malta flag (IRISL); Vessel Registration Identification IMO 9165803 (Malta) (vessel) [NPWMD]

Gabion (f.k.a. Seventh Ocean) General Cargo 22,882DWT 15,670GRT Malta flag (IRISL); Vessel Registration Identification IMO 9165786 (Malta) (vessel) [NPWMD]

Galax (f.k.a. Ninth Ocean) General Cargo 22,882DWT 15,670GRT Malta flag (IRISL); Vessel Registration Identification IMO 9165798 (Malta) (vessel) [NPWMD]

Gladiolus (f.k.a. Tenth Ocean) General Cargo 22,882DWT 15,670GRT Malta flag (IRISL); Vessel Registration Identification IMO 9165815 (Malta) (vessel) [NPWMD]

Golestan (f.k.a. Iran Golestan) Bulk Carrier 72,162DWT 39,517GRT Malta flag (IRISL); Vessel Registration Identification IMO 9226944 (Malta) (vessel) [NPWMD]

Hadis (f.k.a. Iran Ilam; f.k.a. Sepitam) Container Ship 37,894DWT 27,681GRT Barbados flag (IRISL); Vessel Registration Identification IMO 9283033 (Barbados) (vessel) [NPWMD]

Hamadan (f.k.a. Iran Hamadan) Bulk Carrier 72,162DWT 39,517GRT Malta flag (IRISL); Vessel Registration Identification IMO 9226956 (Malta) (vessel) [NPWMD]

Mazandaran (f.k.a. Iran Mazandaran) Bulk Carrier 72,642DWT 39,424GRT Malta flag (IRISL); Vessel Registration Identification IMO 9193197 (Malta) (vessel) [NPWMD]

Nafis (f.k.a. Iran Azarbayjan; f.k.a. ZAWA) Bulk Carrier 72,642DWT 39,424GRT Cyprus flag (IRISL); Vessel Registration Identification IMO 9193185 (Cyprus) (vessel) [NPWMD]

Pardis (f.k.a. Iran Yasooj; f.k.a. Simber) Container Ship 33,812DWT 25,391GRT Barbados flag (IRISL); Vessel Registration Identification IMO 9284142 (Barbados) (vessel) [NPWMD]

Parmis (f.k.a. Iran Piroozi; f.k.a. Sakas) Container Ship 33,853DWT 25,391GRT Barbados flag (IRISL); Vessel Registration Identification IMO 9283007 (Barbados) (vessel) [NPWMD]

Salis (f.k.a. Iran Fars; f.k.a. Sewak) Container Ship 33,850DWT 25,391GRT Barbados flag (IRISL); Vessel Registration Identification IMO 9283021 (Barbados) (vessel) [NPWMD]

Sania (f.k.a. Iran Nowshahr) General Cargo 7,004DWT 5,676GRT Iran flag (IRISL); Vessel Registration Identification IMO 9367994 (Iran) (vessel) [NPWMD]

Somia (f.k.a. Iran Torkaman) General Cargo 7,004DWT 5,676GRT Iran flag (IRISL); Vessel Registration Identification IMO 9368015 (Iran) (vessel) [NPWMD]

tandis (f.k.a. Iran Ardebil; f.k.a. Sepanta) Container Ship 37,875DWT 27,681GRT Barbados flag (IRISL); Vessel Registration Identification IMO 9284154 (Barbados) (vessel) [NPWMD]

Deleted Vessels:

Developer (a.k.a. Iran Developer) Bulk Carrier 43,300DWT 25,768GRT IRAN flag (IRISL); Vessel Registration Identification IMO 8309660 (vessel) [NPWMD]

Iran Azadi Bulk Carrier 35,839DWT 20,672GRT Iran flag (IRISL); Vessel Registration Identification IMO 7632838 (vessel) [NPWMD]

Iran Baghaei General Cargo 17,945DWT 13,914GRT Iran flag (IRISL); Vessel Registration Identification IMO 7502734 (vessel) [NPWMD]

Iran Bagheri General Cargo 17,928DWT 13,914GRT Iran flag (IRISL); Vessel Registration Identification IMO 7428811 (vessel) [NPWMD]

Iran Broojerdi General Cargo 17,929DWT 13,914GRT Iran flag (IRISL); Vessel Registration Identification IMO 7502722 (vessel) [NPWMD]

Iran Mahallati General Cargo 17,982DWT 13,914GRT Iranflag (IRISL); Vessel Registration Identification IMO 7428823 (vessel) [NPWMD]

Iran Modares Bulk Carrier 33,663DWT 20,049GRT Iran flag (IRISL); Vessel Registration Identification IMO 7618985 (vessel) [NPWMD]

Iran Nabuvat General Cargo 19,212DWT 14,856GRT Iran flag (IRISL); Vessel Registration Identification IMO 7618571 (vessel) [NPWMD]

Iran Takhti General Cargo 23,720DWT 16,173GRT Iran flag (IRISL); Vessel Registration Identification IMO 7602194 (vessel) [NPWMD]

Iran Teyfouri General Cargo 23,720DWT 16,173GRT Iran flag (IRISL); Vessel Registration Identification IMO 7602211 (vessel) [NPWMD]

Dated: August 29, 2011.
Adam J. Szubin,
Director, Office of Foreign Assets Control.

[FR Doc. 2011-22684 Filed 9-2-11; 8:45 am]

BILLING CODE 4810-AL-P